DEPARTMENT OF THE INTERIOR

Bureau of Land Management

[LLCAD09000.L14300000.ES0000; CACA-51457]

Notice of Realty Action: Recreation and Public Purposes Act Classification, California

AGENCY: Bureau of Land Management, Interior.

ACTION: Notice of realty action.

SUMMARY: The Bureau of Land Management (BLM) has examined and found suitable for classification for lease and subsequent conveyance under the provisions of the Recreation and Public Purposes Act (R&PP Act), as amended, approximately 133 acres of public land in San Bernardino County, California. The State of California, acting through the California Department of Transportation (Caltrans), proposes to construct a Joint Port of Entry (JPOE) inspection facility on Interstate 15 (I-15), near the California/Nevada state line. In conjunction with Caltrans, the California Department of Food and Agriculture, the California Department of General Services, and the California Highway Patrol would participate cooperatively in this multipurpose project.

DATES: For a period until March 29, 2010, interested parties may submit comments to the Field Manager, BLM Needles Field Office, at the address below.

ADDRESSES: Bureau of Land Management, Needles Field Office, 1303 South U.S. Highway 95, Needles, California 92363.

FOR FURTHER INFORMATION CONTACT: Jose M. Najar, Realty Specialist, BLM Needles Field Office, (760) 326-7006.

SUPPLEMENTARY INFORMATION: The following described public land in San Bernardino County, California, has been examined and found suitable for lease and subsequent conveyance under the provisions of the R&PP Act. The land is located northwesterly of and parallel to I-15 between Nipton Road and Yates Well Road and is described as:

San Bernardino Meridian

T. 16 N., R. ¼ E.,

Sec. 1, portion of W½SE¼;

Sec. 12, portions of NW¼NE¼, E½NW¼, E½SW¼, and SW¼SW¼;

Sec. 13, portions of W½NW¼ and NW¼SW¼;

Sec. 14, portion of E½SE¼;

Sec. 23, portions of NE¼NE¼, S½;NE¼, W½SE¼, and SE¼SW¼;

Sec. 26, portions of E½NW¼, N½SW¼, and SW¼SW¼.

The area described contains 133 acres, more or less.

The above description will be replaced by lots designated upon the approval of an official supplemental plat of survey. The application filed by the Caltrans described the lands by metes and bounds.

The State of California, acting through the Caltrans, filed an R&PP application for the classification, lease, and subsequent conveyance of 133 acres of public land to be developed for a JPOE inspection facility. The proposed JPOE inspection facility would be comprised of a Commercial Vehicle Enforcement Facility and an Agricultural Inspection Facility between Nipton Road and Yates Well Road on the southbound I-15. Upon completion of the project, all traffic entering California on the southbound I-15 would be diverted through the JPOE.

Leasing and subsequent conveyance of the land to the State of California is consistent with current BLM planning for this area and would be in the public interest. The land is not needed for any Federal purpose. The lease would be issued for an initial term of 5 years to allow sufficient time to develop the planned facilities. The land would be conveyed after substantial development has occurred on the land. The lease and subsequent patent, if issued, would be subject to the provisions of the R&PP Act and applicable regulations of the Secretary of the Interior, and would be subject to the following terms, conditions, and reservations:

1. A right-of-way thereon for ditches or canals constructed by the authority of the United States pursuant to the Act of August 30, 1890 (43 U.S.C. 945).

2. All minerals shall be reserved to the United States, together with the right to prospect for, mine, and remove the minerals under applicable laws and regulations established by the Secretary of the Interior.

3. All valid existing rights.

4. An appropriate indemnification clause protecting the United States from claims arising out of the lessee/patentee's use, occupancy, or operations on the land. Upon publication of this notice in the Federal Register, the public land described above is segregated from all forms of appropriation under the public land laws, including the general mining laws and leasing under the mineral leasing laws, except for lease/conveyance under the R&PP Act. Interested parties may submit comments regarding the proposed lease/conveyance or classification of the land until March 29, 2010.

Classification Comments: Interested parties may submit comments involving the suitability of the land for a JPOE inspection facility. Comments on the classification are restricted to whether the land is physically suited for the proposal or any other issues that would be pertinent to the environmental assessment (prepared under the National Environmental Policy Act of 1969) for this action, whether the use would maximize the future use or uses of the land, whether the use is consistent with local planning and zoning, or whether the use is consistent with State and Federal programs.

Application Comments: Interested parties may submit comments regarding the specific use proposed in the application and plan of development, whether the BLM followed proper administrative procedures in reaching its classification decision, or any other factor not directly related to the suitability of the land for R&PP use as a JPOE inspection facility.

All submissions from organizations or businesses will be made available for public inspection in their entirety. Before including your address, phone number, e-mail address, or other personal identifying information in your comment, be aware that your entire comment-including your personal identifying information-may be made publicly available at any time. While you can ask us in your comment to withhold your personal identifying information from the public review, we cannot guarantee that we will be able to do so.

Any adverse comments will be reviewed by the State Director, who may sustain, vacate, or modify this realty action. In the absence of any adverse comments, the classification of the land described in this notice will become effective on April 12, 2010. The land will not be available for lease/conveyance until after the classification becomes effective.

Authority: 43 CFR 2741.5.

Thomas Pogacnik,
Deputy State Director, Natural Resources.

[FR Doc. 2010-2849 Filed 2-9-10; 8:45 am]

BILLING CODE 4310-40-P